DELAWARE RIVER BASIN COMMISSION

Notice of Commission Meeting and Public Hearing

Notice is hereby given that the Delaware River Basin Commission will hold an informal conference followed by a public hearing on Wednesday, September 27, 2006. The hearing will be part of the Commission's regular business meeting. Both the conference session and business meeting are open to the public and will be held at the Commission's office building, located at 25 State Police Drive in West Trenton, New Jersey.

The conference among the commissioners and staff will begin at 10:15 a.m. Topics of discussion will include a presentation on proposed revisions to the State of New Jersey's Flood Plain Regulations; general discussion of Basin-wide flood mitigation and flood loss reduction planning; a presentation on preliminary findings of a U.S. Fish & Wildlife Service dwarf wedgemussel habitat study; a presentation by the Water Management Advisory Committee Chair on a recommended policy for water transfers and a proposed water loss accountability program; and a second-year status report on implementation of the Commission's 2004 Water Resources Plan for the Delaware River Basin.

The subjects of the public hearing to be held during the 1:30 p.m. business meeting include the dockets listed below:

1. Matamoras Municipal Authority D-81-78 CP-5. An application to replace the withdrawal of water from Well No. 8 in the applicant's public water supply distribution system with a withdrawal from Well No. 8A, because Well No. 8 has become an unreliable source of supply. The applicant requests that the maximum total withdrawal from all wells remain unchanged, at 11.7 million gallons per thirty days (mg/30 days). The replacement well is located in the Pleistocene Outwash Formation in the Delaware River Watershed in Matamoras Borough, Pike County, Pennsylvania.

2. Joseph Jackewicz, Sr. D-91-53-2. An application for the renewal of a ground and surface water withdrawal project to continue withdrawal of 219.8 mg/30 days to supply the applicant's agricultural irrigation system from replacement Well No. Townsend 3, eight existing wells and one existing surface water intake. The project is located in the Tidbury Creek, Cypress Branch and Double Run watersheds in the Town of Magnolia, Kent County, Delaware.

3. Maidencreek Township Authority D-91-58 CP-4. An application for approval of a ground water withdrawal project to supply up to 14.39 mg/30 days of water to the applicant's public water supply distribution system from new Well No. 5 in the Allentown Formation, and to retain the existing withdrawal from all wells of 22.7 mg/30 days. Well No. 5 is proposed as a redundant source to provide flexibility and reliability in operation of the applicant's public water supply distribution system. The project is located in the Maiden Creek Watershed in Maidencreek Township, Berks County, Pennsylvania.

4. Solvay Solexis D-69-84-2. An application for the approval of a ground water withdrawal project to increase the allocation of water from 2 mg/30 days to 60 mg/30 days to the docket holder's industrial supply distribution system through two existing wells (Wells Nos. 417 and 418) and to supply up to 14.91 mg/30 days of water to the docket holder's ground water remediation program through four new wells (Wells Nos. RW1 through RW4). The project is located in the Delaware River Watershed in West Deptford Township, Gloucester County, New Jersey.

5. Reading Regional Airport Authority D-86-38 CP-2. An application to upgrade and expand an existing 0.175 million gallon per day (mgd) secondary wastewater treatment plant (WWTP) to 0.42 mgd. The project is located at the western end of the existing WWTP site off Leiscz's Bridge Road between Reading Regional Airport and the Schuylkill River in Bern Township, Berks County Pennsylvania. The project service area includes the Reading Regional Airport and associated development, the West Shore area, the Water District area and the Saint Joseph Medical Center area, all in Bern Township. Much of the existing plant will be replaced by new treatment facilities which includes Sequencing Batch Reactors biological processing, aerobic sludge digesters and gas chlorination prior to discharge to the Schuylkill River at the existing discharge point. Please note the docket number change. A Notice of Application Received was issued for this application on April 2, 2004 under D-2004-16.

6. Antietam Valley Municipal Authority D-87-45 CP-2. An application to modify a 1.225 mgd WWTP to more effectively process hydraulic surges due to wet weather-related infiltration and inflow (I & I) to the collection system. The WWTP will continue to serve predominantly residential portions of St. Lawrence Borough, Mount Penn Borough, and Exeter and Lower Alsace townships, all within Berks County, Pennsylvania. The WWTP is located on Butter Lane in St. Lawrence Borough just east of the intersection of State Route 562 and U.S. Route 422. The WWTP will continue to discharge to Antietam Creek in the Schuylkill River Watershed through the existing outfall. No increase in treatment capacity is proposed, as the docket holder will continue its efforts to control I & I.

7. Waste Management Disposal Services of Pennsylvania, Inc. D-88-54-3. An application to modify a landfill leachate treatment plant (LTP) discharge to the tidal Delaware River via a constructed discharge cove in DRBC Water Quality Zone 2. The 0.1 mgd LTP serves the GROWS and Tullytown Sanitary Landfills and is located off Bordentown Road in Falls Township, Bucks County, Pennsylvania. The LTP utilizes best available treatment technology to remove organic and inorganic contaminants, with the exception of total dissolved solids (TDS). The docket holder has requested that its docket be modified to allow an interim average concentration of up to 15,000 milligrams per liter (mg/l) of TDS in the plant's discharge, an increase from the current limit of 10,000 mg/l as an average. Approximately 3,000 mg/l of TDS is added to the leachate treatment process to facilitate ammonia stripping, metals prescription and sludge conditioning. The proposed LTP discharge is expected to increase background TDS in the estuary by less than 0.5 percent. An environmental study will be conducted to demonstrate that no adverse impact will occur to aquatic life in the discharge cove before an application to increase the LTP effluent TDS concentration to 19,100 mg/l is considered. The project involves no expansion of the treatment facilities or treatment capacity.

8. Mount Airy #1, LLC D-89-37-2. An application for approval of a ground water withdrawal project to supply up to 9.5 mg/30 days of water to the applicant's distribution system from new Wells Nos. 1 and 2. The project is located in the Long Run Member of the Catskill Formation in the Forest Hills Run Watershed in Paradise Township, Monroe County, Pennsylvania.

9. Town of Smyrna D-93-72 CP-2. An application to replace the withdrawal of water from Well No. 1A in the applicant's water supply system because it has become an unreliable source of supply. The applicant requests that the withdrawal from replacement Well No. 3 and existing Wells Nos. 1 and 2A be increased from 33.99 mg/30 days to 34 mg/30 days. The project is located in the Columbia/Cheswold Formation in the Smyrna River Watershed in the Town of Smyrna, Kent County, Delaware.

10. Degussa Corporation D-96-11-2. An application to expand the industrial waste treatment plant's (IWTP) existing discharge to the Delaware River from 0.95 mgd to 1.15 mgd. In conjunction with the expanded discharge, the applicant also has requested a new determination of the IWTP's allowable Total Dissolved Solids limit. The facility, which will continue to serve only the applicant's silica production operations, is located in the City of Chester, Delaware County, Pennsylvania.

11. Moyer Packing, Rendering and Beef Facility D-96-21-2. An application to re-establish the DRBC's industrial wastewater treatment plant (IWTP) effluent Total Dissolved Solids (TDS) determination of 3,100 mg/l, issued to Moyer Packing Company (MOPAC) in 1985. The TDS determination was later replaced by an osmotic pressure limit contained in the facility's NPDES Permit. DRBC staff has determined that the effluent TDS limit of 3,100 mg/l is not protective of a downstream agricultural use and is recommending that the Commission rescind the TDS limit currently in effect and impose the Commission's basinwide TDS standard of 1000 mg/l, unless the applicant provides the downstream irrigation user with an alternative water source. No increase of MOPAC's 0.75 mgd IWTP capacity is proposed. The IWTP will continue to serve only the MOPAC meat packing and rendering facility, which is located in Franconia Township, Montgomery County, Pennsylvania. IWTP effluent will continue to discharge to Skippack Creek in the Schuylkill River Watershed through the existing outfall.

12. Green-Waltz Water Company/Nestle Waters North America Inc. D-98-55-3. An application for approval of a ground water withdrawal project to supply up to 4.8 mg/30 days of water for bulk water supply to the applicant's bottling plant from new Spring Water Borehole B-2, in the Martinsburg Formation. The applicant has requested an increase in total allocation from 11.7 mg/30 days to 16.5 mg/30 days. The project is located in the Waltz Creek Watershed in Washington Township, Northampton County, Pennsylvania.

13. City of Easton D-99-62 CP. An application to increase the applicant's surface water withdrawal allocation from 10 mgd to 12 mgd (360 mg/month) via its intake on the Delaware River at the northeast corner of the City of Easton, Northampton County, Pennsylvania. The proposed expansion is needed to serve increased population in the applicant's existing service area which includes the City of Easton; Wilson, Glendon and West Easton Boroughs; Palmer and Forks Townships; and portions of Williams, Bethlehem and Lower Nazareth Townships; all in Northampton County, Pennsylvania. No additional treatment or storage facilities are proposed.

14. Upper Saucon Township D-2000-51 CP-2. An application for approval of a ground water withdrawal project to supply up to 32.16 mg/30 days of water to the docket holder's public supply distribution system through one new well (Well No. CC2) and two existing wells (Wells Nos. CC1 and Abandoned Mine Shaft). The individual allocation for the Abandoned Mine Shaft Well is a reduction from the previous allocation of 30 mg/30 days to 3 mg/30 days; however, the proposed total allocation for all sources is an increase from the previous total allocation for all sources of 30 mg/30 days. The project is located in the Brunswick Formation in the Saucon Creek Watershed in Upper Saucon Township, Lehigh County, Pennsylvania.

15. Little Washington Wastewater Co. D-2002-42-2. An application for expansion of the White Haven Borough WWTP from 0.45 mgd to 0.6 mgd. The expansion is proposed to accommodate wastewater flows from areas formerly served by the aging Hickory Hills and Ag-Mar WWTPs, in accordance with a Consent Order and Agreement between PADEP and Foster Township. The WWTP will continue to discharge to the Lehigh River, which is tributary to the Lower Delaware River Special Protection Waters. The facility is located in White Haven Borough, Luzerne County, Pennsylvania.

16. Great Wolf Lodge D-2003-25-2. An application for the approval of the addition of a 60,000 gallon equalization tank and associated modifications to the existing 90,000 gpd WWTP. The WWTP will continue to discharge to Scot Run, a tributary of the Pocono Creek, which is a tributary of the Brodhead Creek. The Brodhead Creek is a tributary to the Middle Delaware River Special Protection Waters. The facility is located in Pocono Township, Monroe County, Pennsylvania.

17. Alsace Township D-2006-5 CP-1. An application to construct a 0.071 mgd WWTP to process domestic wastewater from 201 homes in Alsace Township that are currently served by on-lot septic systems. The extended aeration plant will be constructed at the intersection of Alsace Avenue and Kegerise Drive in Alsace Township, Berks County, Pennsylvania. WWTP effluent will be discharged to an unnamed tributary of Little Manatawny Creek in the Schuylkill River Watershed.

18. Delaware River Joint Toll Bridge Commission D-2006-7 CP-1. An application for approval of a bridge modification project, located in a recreational area which is included in the DRBC Comprehensive Plan. The U.S. Route 1 Toll Bridge connects the Borough of Morrisville, Bucks County, Pennsylvania with the City of Trenton, Mercer County, New Jersey and is located at the base of DRBC Water Quality Zone 1E. The bridge will be widened at a point where it passes over the Delaware Canal, formerly known as Roosevelt State Park.

19. Green Walk Trout Hatchery D-2006-8-1. An application for approval of a ground water withdrawal project to supply up to 12.96 mg/30 days of water to the applicant's commercial trout hatchery from existing Wells Nos. W-2, W-5 and W-6. The total allocation will be limited to 12.96 mg/30 days. Ground water withdrawals will be used to augment the flow of Greenwalk Creek and provide cold, oxygenated water to the applicant's trout stocking facility. The project is located in the Waltz Creek Watershed in Washington Township, Northampton County, Pennsylvania.

20. Ingersoll-Rand Company D-2006-14-1. An application for the approval of an existing groundwater remediation discharge project located at the Ingersoll-Rand facility in Phillipsburg, New Jersey. The existing remediation system discharges approximately 0.090 mgd via Outfall 002 to Lopatcong Creek, which converges with the Delaware River at River Mile 182, within a reach classified as “Significant Resource Waters.” The facility is located in the Town of Phillipsburg and Lopatcong Township, Warren County, New Jersey.

21. Clement Pappas & Co., Inc. D-2006-15-1. An application for the approval of an existing 2.0 mgd cooling water discharge that serves the applicant's food processing facility. The food processing operation consists of bottling fruit juices and cranberry sauces. The cooling water is discharged to Foster Run, which is a tributary to the Cohansey River. The facility is located in Upper Deerfield Township, Cumberland County, New Jersey.

22. Cove Haven Inc., d/b/a Caesars Brookdale on the Lake Resort D-2006-19-1. An application for the approval of the existing Caesars Brookdale on the Lake Resort's WWTP discharge of 0.084 mgd. The WWTP will continue to discharge to Brookdale Lake, which discharges to Scot Run. Scot Run is a tributary to the Pocono Creek, which is tributary to the Brodhead Creek. The Brodhead Creek is a tributary to the Middle Delaware River Special Protection Waters. The facility is located in Pocono Township, Monroe County, Pennsylvania.

23. Cove Haven Inc., d/b/a Caesars Paradise Stream Resort D-2006-20-1. An application for approval of an existing 0.1 mgd discharge from the WWTP that serves the Caesars Paradise Stream Resort. The WWTP will continue to discharge to Paradise Creek, which is a tributary to the Brodhead Creek. The Brodhead Creek is a tributary to the Middle Delaware River Special Protection Waters. The facility is located in Paradise Township, Monroe County, Pennsylvania.

24. White Pines Partners, L.P. D-2006-22-1. An application for approval of a ground water withdrawal project to supply up to 4.968 mg/30 days of water to the applicant's Island Green golf course irrigation system from new Well PW-1. The project is located in the Wissahickon Schist Formation in the Pennypack Creek Watershed in the City of Philadelphia, Pennsylvania.

25. Council Rock School District D-2006-24 CP-1. An application for approval of a ground water withdrawal project to supply up to 2.722 mg/30 days of water to the applicant's athletic field irrigation system from new Wells Nos. 1 and 2. The project is located in the Stockton Formation in the Neshaminy Creek Watershed in Northampton Township, Bucks County, Pennsylvania and within the Southeastern Pennsylvania Ground Water Protected Area.

In addition to the public hearing on the dockets listed above, the Commission's 1:30 p.m. business meeting will include: a public hearing and consideration of a resolution to extend the Special Protection Waters designation for the Lower Delaware River; a public hearing and consideration of a resolution approving the Commission's Water Resources Program for Fiscal Years 2007-12; a resolution authorizing the Executive Director to enter into an agreement with the National Oceanic and Atmospheric Administration for the purpose of installing snow pack gauges in the Upper Basin; a resolution authorizing the Executive Director to enter into an agreement for consulting services in connection with the acquisition of a data management system; and a public hearing and consideration of a resolution approving the DRBC Fiscal Year 2007-08 Budget and Work Plan.

The meeting will also include: adoption of the Minutes of the Commission's July 19, 2006 business meeting; announcements of upcoming advisory committee meetings and other events; a report by the Executive Director; a report by the Commission's General Counsel; and an opportunity for public dialogue.

Draft dockets scheduled for public hearing on September 27, 2006 will be posted on the Commission's Web site, http://www.drbc.net, where they can be accessed through the Notice of Commission Meeting and Public Hearing. Additional documents relating to the dockets and other items may be examined at the Commission's offices. Please contact William Muszynski at 609-883-9500, extension 221, with any docket-related questions.

Individuals in need of an accommodation as provided for in the Americans with Disabilities Act who wish to attend the informational meeting, conference session or hearings should contact the commission secretary directly at 609-883-9500 ext. 203 or through the Telecommunications Relay Services (TRS) at 711, to discuss how the Commission can accommodate your needs.

Dated: September 5, 2006.
Pamela M. Bush,
Commission Secretary.

[FR Doc. E6-15035 Filed 9-11-06; 8:45 am]

BILLING CODE 6360-01-P